DEPARTMENT OF THE TREASURY

Customs Service

[T.D. 01-72]

Retraction of Revocation Notice

AGENCY: U.S. Customs Service, Department of the Treasury.

ACTION: General notice.

SUMMARY: The following Customs broker license numbers were erroneously included in a list of revoked Customs broker licenses.

Name | License | Port name
William F. Joffroy, Jr. | 05864 | Nogales.
Iselda C. Martinez | 12357 | Miami.
Scott M. Pierce | 15327 | Atlanta.
Unit International of Miami | 13168 | Miami.
Eduardo Villareal | 13683 | Laredo.
W.J. Byrnes-Air & Company | 00060 | San Francisco.

Customs broker licenses numbered 05864, 12357, 15327, 13168, 13683, and 00060 remain valid.

Dated: September 28, 2001.
Bonni G. Tischler,
Assistant Commissioner, Office of Field Operations.

[FR Doc. 01-25137 Filed 10-5-01; 8:45 am]

BILLING CODE 4820-02-P